DEPARTMENT OF DEFENSE

Department of the Air Force

Intent To Grant an Exclusive Patent License

SUMMARY: Pursuant to the provisions of Part 404 of Title 37, Code of Federal Regulations, which implements Public Law 96-517, as amended, the Department of the Air Force announces its intention to grant X5 Systems, Inc. a corporation of Delaware, having a place of business at 140 Meadowbrook Drive, Los Gatos, California 95032, an exclusive license in any right, title and interest the United States Air Force has in: U.S. Patent Number 5,719,794, filed on July 19, 1995 and issued on February 17, 1998, entitled “A Process for the Design of Antennas using Genetic Algorithms” by Edward E. Altshuler as sole inventor.

FOR FURTHER INFORMATION CONTACT: A license for this patent will be granted unless a written objection is received within fifteen (15) days from the date of publication of this Notice. Written objections should be sent to: Air Force Research Laboratory, Office of the Staff Judge Advocate, AFRL/RIJ, 26 Electronic Parkway, Rome, New York 13441-4514. Telephone: (315) 330-2087; Facsimile (315) 330-7583.

Bao-Anh Trinh,
Air Force Federal Register Liaison Officer.

[FR Doc. E8-29164 Filed 12-9-08; 8:45 am]

BILLING CODE 5001-05-P